DEPARTMENT OF HEALTH AND HUMAN SERVICES

Centers for Medicare & Medicaid Services

42 CFR Part 510

[CMS-5516-CN]

RIN 0938-AS64

Medicare Program; Comprehensive Care for Joint Replacement Payment Model for Acute Care Hospitals Furnishing Lower Extremity Joint Replacement Services; Corrections

AGENCY: Centers for Medicare & Medicaid Services (CMS), HHS.

ACTION: Proposed rule; correction.

SUMMARY: This document corrects technical and typographical errors that appeared in the proposed rule published in the July 14, 2015 Federal Register entitled “Medicare Program; Comprehensive Care for Joint Replacement Payment Model for Acute Care Hospitals Furnishing Lower Extremity Joint Replacement Services.”

DATES: The comment due date for the proposed rule published in the Federal Register on July 14, 2015 (80 FR 41198) remains September 8, 2015.

FOR FURTHER INFORMATION CONTACT: Claire Schreiber, Claire.Schreiber@cms.hhs.gov, (410) 786-8939.

Gabriel Scott, Gabriel.Scott@cms.hhs.gov, (410) 786-3928.

SUPPLEMENTARY INFORMATION:

I. Background

In FR Doc. 2015-17190 of July 14, 2015 (80 FR 41198), there were a number of technical and typographical errors that are identified and corrected in the Correction of Errors section of this document.

II. Summary of Errors

On page 41210, in our discussion of the factors considered but not used in creating proposed strata, we inadvertently omitted a term and used an incorrect term.

On pages 41212 and 41269, we made errors in referencing the name of the Comprehensive Care for Joint Replacement (CCJR) model.

On pages 41223 and 41224, in our discussion of the proposed pricing adjustment for high payment episodes, we made errors in describing the distribution model presented in Figure 2.

On page 41234, in our discussion of the proposed combination of CCJR episodes anchored by Medical Severity Diagnosis-Related Groups (MS-DRGs) 469 and 470, we made an error in the unpooled hospital-specific historical average payments calculation for MS-DRG 469 anchored target prices.

On pages 41235 and 41236, in our discussion of the proposed approach to combine pricing features, we made an error in the placement and the language of a sentence that was part of the bulleted text.

On page 41240, in the discussion of the criteria for applicable hospitals and performance scoring, we made errors in stating the percentage of eligible elective primary total hip arthroplasty/total knee arthoplasty (THA/TKA) patients for which hospitals must submit data and the timeframe for the submission of data.

On pages 41241 and 41242, we made errors in stating a National Quality Forum (NQF) measure number.

On page 41250, in the discussion of the accounting for CCJR reconciliation payments and repayments in other models and programs, we inadvertently omitted a word.

On page 41251, in the discussion of the accounting for per beneficiary per month (PBPM) payments in the episode definition, we made an error in stating the total number of models with PBPMs.

On pages 41268, 41270, and 41278, we made typographical errors in footnotes 42, 43, and 55, respectively. These errors include omitting the title of the article that was referenced, omitting the text of the footnote, and inadvertently adding a reference to a footnote.

On page 41283, in the discussion of “Case Mix Adjustment,” we inadvertently omitted a term.

On pages 41242, 41281, and 41284, we made technical and typographical errors in using the acronyms “CCJR-,” “HCAHPS,” and “THA”.

On page 41285, in our discussion of pre-operative assessments, we made errors in our designation of several bulleted paragraphs.

On pages 41287 and 41288, Table 16, we made errors in the table formatting and omitted language that would identify the entries pertaining to the duration of the performance period.

III. Correction of Errors

In FR Doc. 2015-17190 of July 14, 2015 (80 FR 41198), make the following corrections:

1. On page 41210, first column, fifth full paragraph, lines 1 through 3, the phrase “these measures are proposed to be part of the selection stratus” is corrected to read “these measures are not proposed to be part of the selection strata”.

2. On page 41212, lower half of the page, second column, first paragraph, lines 1 and 2, the phrase “Coordinated Quality Care-Joint Replacement” is corrected to read “Comprehensive Care for Joint Replacement”.

3. On page 41223, third column, last paragraph, lines 7 through 12, the sentence “Similarly, we believe the BPCI distribution of Model 2 90-day LEJR episode payment amounts as displayed in Figure 1 provides information that is relevant to policy development regarding CCJR episodes.” is corrected to read “Similarly, we believe the distribution of 90-day LEJR episode payment amounts utilizing the BPCI Model 2 episode definition as displayed in Figure 2 provides information that is relevant to policy development regarding CCJR episodes.”.

4. On page 41224, top of the page, in the figure heading (Figure 2), the heading “FIGURE 2: ESTIMATED NATIONAL DISTRIBUTION of BPCI MODEL 2 LEJR 90-day EPISODE PAYMENT AMOUNTS” is corrected to read “FIGURE 2: ESTIMATED NATIONAL DISTRIBUTION OF LEJR 90-day EPISODE PAYMENT AMOUNTS”.

5. On page 41234, first column, first full paragraph, line 11, the phrase “hospital weight” is corrected to read “anchor factor”.

6. On page 41235, third column—

a. Sixth bulleted paragraph, last line, the phrase “the previous step.” is corrected to read “the previous step. We have posted region-specific historical average episode payments on the CCJR proposed rule Web site at http://innovation.cms.gov/initiatives/ccjr/.”.

b. Last bulleted paragraph, lines 12 through 13, and page 41236, first column, first partial paragraph, lines 1 through 3, the sentence, “We have posted region-specific pooled historical average episode payments on the CCJR proposed rule Web site at http://innovation.cms.gov/initiatives/ccjr/.” is corrected by removing the sentence.

7. On page 41240—

a. Second column, last bulleted paragraph, line 3, the figure “70” is corrected to read “80”.

b. Third column—

(1) First full paragraph (bulleted), line 3, the phrase “12 month” is corrected to read “performance”.

(2) Second full paragraph, line 30, the figure “70” is corrected to read “80”.

8. On page 41241—

a. Top of the page, second column, first partial paragraph, line 27, the parenthetical reference “(NQF #1661)” is corrected to read “(NQF #0166)”.

b. Lower third of the page, in the table titled “TABLE 8—QUALITY MEASURE WEIGHTS IN COMPOSITE QUALITY SCORE”, first column of the table (Quality measure), line 3, the parenthetical reference “(NQF #1661)” is corrected to read “(NQF #0166)”.

9. On page 41242, top third of the page, third column, first full paragraph, line 9—

a. The acronym “HCAPHS” is corrected to read “HCAHPS”.

b. The parenthetical reference “(NQF #1661)” is corrected to read “(NQF #0166)”.

10. On page 41250, third column, first full paragraph, line 12, the phrase “to be able make” is corrected to read “to be able to make”.

11. On page 41251, second column, first full paragraph, line 2, the phrase “four existing models” is corrected to read “active models”.

12. On page 41268, second column, last paragraph, the footnote (footnote 42), “ ⁴² Naylor MD, Brooten D, Campbell R, Jacobsen BS, Mezey MD, Pauly MV, Schwartz JS. JAMA. 1999: 281(7): 613-620. doi:10/1001/jama.281.7.613” is corrected to read “ ⁴² Naylor MD, Brooten D, Campbell R, Jacobsen BS, Mezey MD, Pauly MV, Schwartz JS. Comprehensive discharge planning and home follow-up of hospitalized elders: A randomized clinical trial. JAMA. 1999: 281(7): 613-620. doi:10/1001/jama.281.7.6136.”.

13. On page 41269—

a. Second column, second full paragraph, lines 28 and 29, the phrase “Coordinated quality care-joint replacement model” is corrected to read “Comprehensive Care for Joint Replacement model”.

b. Third column, first partial paragraph, lines 5 and 6, the phrase “Medicare-approved coordinated quality care-Joint Replacement model)” is corrected to read “Medicare-approved Comprehensive Care for Joint Replacement model)”.

14. On page 41270, third column, following the last paragraph, is corrected by adding the following footnoted paragraph (Footnote 43):

“ ⁴³ Telehealth in an Evolving Health Care Environment: Workshop Summary (2012). Available at: http://www.ic4n.org/wp-content/uploads/2014/06/IoM-Telehealth-2012-Workshop-Summary.pdf. Accessed on June 7, 2015.”

15. On page 41278, second column, third footnoted paragraph (Footnote 55) “ ⁵⁵ Soohoo NF, Farng E, Lieberman JR, Chambers L, Zingmond DS. Factors That Predict Short-term Complication Rates After Total Hip Arthroplasty. Clin Orthop Relat Res. Sep 2010; 468(9): 2363-2371. Cram P, Vaughn-Sarrazin MS, Wolf B, Katz JN, Rosenthal GE. A comparison of total hip and knee replacement in specialty and general hospitals. J Bone Joint Surg Am. Aug 2007; 89(8): 1675-1684.” is corrected to read “ ⁵⁵ Soohoo NF, Farng E, Lieberman JR, Chambers L, Zingmond DS. Factors that predict short-term complication rates after total hip arthroplasty. Clin Orthop Relat Res. Sep 2010; 468(9): 2363-2371.”.

16. On page 41281, second column, last partial paragraph, line 1, the phrase “We note that CCJR—we chose to align” is corrected to read “We note that we chose to align”.

17. On page 41283, first column, sixth bulleted paragraph, the phrase “discharge and survey.” is corrected to read “discharge and survey completion.”.

18. On page 41284—

a. First column, first partial paragraph, line 44, the acronym “HCAPHS” is corrected to read “HCAHPS”.

b. Second column, first partial paragraph, line 7, the phrase “THA THA/TKA patient-reported” is corrected to read “THA/TKA patient-reported”.

19. On page 41285, second column, second bulleted paragraph—

a. Line 17, the phrase “—PROMIS” is corrected to read “++ PROMIS”.

b. Line 29, the phrase “—American Society” is corrected to read “++ American Society”.

c. Line 33, the phrase “—Total painful” is corrected to read “++ Total painful”.

d. Line 34, the phrase “—Quantified spinal” is corrected to read “++ Quantified spinal”.

20. On pages 41287 and 41288, the table titled “TABLE 16—EXAMPLE OF POTENTIAL PERFORMANCE PERIODS FOR PRE- AND POST-OPERATIVE THA/TKA VOLUNTARY DATA SUBMISSION” is corrected to read as follows:

Table 16—Example of Potential Performance Periods for Pre- and Post-Operative THA/TKA Voluntary Data Submission
CCJR Model year | Performance period | Duration of the performance period (months) | Patient population eligible for THA/TKA voluntary data submission | Requirements for successful THA/TKA voluntary data submission *
2016 | April 1, 2016 through June 30, 2016 | 3 | All patients undergoing elective primary THA/TKA procedures performed between April 1, 2016 and June 30, 2016 | Submit PRE-operative data on primary elective THA/TKA procedures for ≥80% of procedures performed between April 1, 2016 and June 30, 2016.
2017 | April 1, 2016 through June 30, 2016 | 15 | All patients undergoing elective primary THA/TKA procedures performed between April 1, 2016 and June 30, 2016 | Submit POST-operative data on primary elective THA/TKA procedures for ≥80% of procedures performed between April 1, 2016 and June 30, 2016.
2017 | July 1, 2016 through June 30, 2017 |  | All patients undergoing elective primary THA/TKA procedures performed between July 1, 2016 and June 30, 2017 | Submit PRE-operative data on primary elective THA/TKA procedures for ≥80% of procedures performed between July 1, 2016 and June 30, 2017.
2018 | July 1, 2016 through June 30, 2017 | 24 | All patients undergoing elective primary THA/TKA procedures performed between July 1, 2016 and June 30, 2017 | Submit POST-operative data on primary elective THA/TKA procedures for ≥80% of procedures performed between July 1, 2016 and June 30, 2017.
2018 | July 1, 2017 through June 30, 2018 |  | All patients undergoing elective primary THA/TKA procedures performed between July 1, 2017 and June 30, 2018 | Submit PRE-operative data on primary elective THA/TKA procedures for ≥80% of procedures performed between July 1, 2017 and June 30, 2018.
2019 | July 1, 2017 through June 30, 2018 | 24 | All patients undergoing elective primary THA/TKA procedures performed between July 1, 2017 and June 30, 2018 | Submit POST-operative data on primary elective THA/TKA procedures for ≥80% of procedures performed between July 1, 2017 and June 30, 2018.
2019 | July 1, 2018 through June 30, 2019 |  | All patients undergoing elective primary THA/TKA procedures performed between July 1, 2018 and June 30, 2019 | Submit PRE-operative data on primary elective THA/TKA procedures for ≥80% of procedures performed between July 1, 2018 and June 30, 2019.
2020 | July 1, 2018 through June 30, 2019 | 24 | All patients undergoing elective primary THA/TKA procedures performed between July 1, 2018 and June 30, 2019 | Submit POST-operative data on primary elective THA/TKA procedures for ≥80% of procedures performed between July 1, 2018 and June 30, 2019.
2020 | July 1, 2019 through June 30, 2020 |  | All patients undergoing elective primary THA/TKA procedures performed between July 1, 2019 and June 30, 2020 | Submit PRE-operative data on primary elective THA/TKA procedures for ≥80% of procedures performed between July 1, 2019 and June 30, 2020.
* Requirements for determining successful submission of THA/TKA voluntary data are located in section III.D.3.a.(9). of this proposed rule.

Dated: August 19, 2015.
Madhura Valverde,
Executive Secretary to the Department, Department of Health and Human Services.

[FR Doc. 2015-20994 Filed 8-21-15; 11:15 am]

BILLING CODE 4120-01-P